DEPARTMENT OF LABOR

Employment and Training Administration

[TA-W-55,149]

Oregon Panel Products, LLC Lebanon, OR; Notice of Termination of Investigation

Pursuant to Section 221 of the Trade Act of 1974, as amended, an investigation was initiated on June 28, 2004 in response to a petition filed on behalf of workers of Oregon Panel Products, LLC, Lebanon, Oregon.

The petitioning group of workers is covered by a certification of petition TA-W-55,009 issued on August 5, 2004. Further investigation in this case would duplicate efforts and serve no purpose; therefore the investigation under this petition has been terminated.

Signed at Washington, DC this 5th day of August 2004.
Richard Church,
Certifying Officer, Division of Trade Adjustment Assistance.

[FR Doc. 04-18736 Filed 8-16-04; 8:45 am]

BILLING CODE 4510-30-P